DEPARTMENT OF COMMERCE

International Trade Administration

Notice of Scope Rulings, Anti-Circumvention Determinations, and Correction

AGENCY: Enforcement and Compliance, International Trade Administration, Department of Commerce.

DATES: Applicable December 17, 2019.

SUMMARY: The Department of Commerce (Commerce) hereby publishes a list of scope rulings and anti-circumvention determinations made during the period January 1, 2019 through March 31, 2019. We intend to publish future lists after the close of the next calendar quarter.

FOR FURTHER INFORMATION CONTACT: Marcia E. Short, AD/CVD Operations, Customs Liaison Unit, Enforcement and Compliance, International Trade Administration, U.S. Department of Commerce, 1401 Constitution Avenue NW, Washington, DC 20230; telephone: 202-482-1560.

SUPPLEMENTARY INFORMATION:

Background

Commerce regulations provide that it will publish in the Federal Register a list of scope rulings on a quarterly basis.¹ Our most recent notification of scope rulings was published on September 25, 2019.² This current notice covers all scope rulings and anti-circumvention determinations made by Enforcement and Compliance between January 1, 2019 through March 31, 2019.

¹ See 19 CFR 351.225(o).

² See Notice of Scope Rulings, 84 FR 50385 (September 25, 2019).

Scope Rulings Made January 1, 2019 Through March 31, 2019:

Italy

A-475-818 and C-475-819: Certain Pasta From Italy

Requestor: European Imports, Inc. Nine gnocchi potato dumpling varieties are outside the scope of the antidumping and countervailing duty orders on certain pasta from Italy because the antidumping and countervailing duty orders pertain to non-egg dry pasta, which does not include the nine gnocchi potato dumpling varieties that European Imports distributes; January 30, 2019.

People's Republic of China (China)

A-570-967 and C-570-968: Aluminum Extrusions From China

Requestor: Tosoh SMD, Inc. The requestor's sputtering target backing plates are not covered by the scope of the antidumping and countervailing duty orders on aluminum extrusions from China, because they contain no extruded aluminum; January 31, 2019.

A-570-899: Artist Canvas From China

Requestors: Impact Images. Polyester fabric coated with flame retardant and polyurethane (PFCPU) imported by Impact Images is outside the scope of the order, because it is not primed/coated with a solution designed to promote the adherence of artist materials, such as paint or ink, to the fabric. Specifically, PFCPU is coated only with flame retardant and polyurethane, which do not promote the adherence of artistic materials, such as paint or ink, to the fabric. The priming/coating material, and the application thereof, commonly known as `gesso' or `gessoing', is a requisite component of the subject merchandise and, therefore, the PFCPU imported by Impact Images is not within the scope of the antidumping duty order on certain artist canvas from China; February 8, 2019.

A-570-922 and C-570-923: Raw Flexible Magnets From China; A-583-842: Raw Flexible Magnets From Taiwan

Requestor: Magnum Magnetics Corporation. Granulated flexible magnets are outside the scope of the orders on raw flexible magnets from China and Taiwan because the product cannot be bent, folded, or manipulated and, thus, are not flexible; March 14, 2019.

Anti-Circumvention Determinations Made January 1, 2019 Through March 31, 2019

Mexico

A-201-830: Carbon and Certain Alloy Steel Wire Rod From Mexico

Requestor: Nucor Corporation. Wire rod produced and/or exported by Deacero S.A.P.I. de CV with an actual diameter less than 4.75 millimeters, and otherwise meeting the description of the scope of the order constitutes merchandise altered in form or appearance in minor respects from in-scope merchandise and is subject to the antidumping duty order on carbon and certainly alloy steel wire rod from Mexico; March 13, 2019.

Correction

A-570-814: Carbon Steel Butt-Weld Pipe Fittings from China ³

³ In the scope rulings notice that published on September 25, 2019 (84 FR 50385) covering scope rulings and anti-circumvention decisions that were signed or published between October 1, 2018 and December 31, 2018, the notice inadvertently stated that Commerce determined that the SAFELET and UNILET fire-protection weld outlets were outside the scope of the antidumping duty order on carbon steel butt-weld pipe fittings from China. Instead, Commerce determined that the merchandise under review was covered by the scope of the order. This is a correction to the September 25, 2019, notice.

Requestor: SIGMA Corporation. SAFELET and UNILET fire-protection weld outlets it imports from China are subject to the China carbon steel butt-weld order because both products feature a beveled end, each has a single butt-welded connection, and they otherwise meet the physical description of merchandise covered by the scope; December 11, 2018.

Notification to Interested Parties

Interested parties are invited to comment on the completeness of this list of completed scope inquiries and anti-circumvention determinations made during the period January 1, 2019 through March 31, 2019. Any comments should be submitted to the Deputy Assistant Secretary for AD/CVD Operations, Enforcement and Compliance, International Trade Administration, 1401 Constitution Avenue NW, APO/Dockets Unit, Room 18022, Washington, DC 20230.

This notice is published in accordance with 19 CFR 351.225(o).

Dated: December 11, 2019.
James Maeder,
Deputy Assistant Secretary for Antidumping and Countervailing Duty Operations.

[FR Doc. 2019-27135 Filed 12-16-19; 8:45 am]

BILLING CODE 3510-DS-P